DEPARTMENT OF LABOR

Employment and Training Administration

Comment Request for Information Collection for Reintegration of Ex-Offenders-Adult Reporting System, Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, ETA is soliciting comments concerning the information collection request (ICR) to collect data about the extension of the currently approved reporting and recordkeeping system to support the Reintegration of Ex-Offenders-Adult (RExO-Adult) grants, which expires on May 31, 2015.

Interested parties are encouraged to provide comments to the contact shown in the ADDRESSES section. Comments must be written to receive consideration, and they will be summarized and included in the request for OMB approval of the final ICR. In order to help ensure appropriate consideration, comments should mention OMB Control Number: 1025-0455.

DATES: Submit written comments to the office listed in the addresses section below on or before June 1, 2015.

ADDRESSES: A copy of this ICR with applicable supporting documentation, including a description of the likely respondents, proposed frequency of response, and estimated total burden may be obtained free by contacting Annie Leonetti, Division of Youth Services—RExO, Room N-4508, Employment and Training Administration, U.S. Department of Labor, 200 Constitution Avenue NW., Washington, DC 20210. Telephone number: 202-693-2746 (this is not a toll-free number). Individuals with hearing or speech impairments may access the telephone number above via TTY by calling the toll-free Federal Information Relay Service at 1-877-889-5627 (TTY/TDD). Fax: 202-693-3113. Email: Leonetti.Ann@dol.gov.

SUPPLEMENTARY INFORMATION:

I. Background

In applying for the Reintegration of Ex-Offender-Adult grants, applicants agree to submit participant data and quarterly aggregate reports for individuals who receive services through RExO-Adult programs and their partnerships with American Job Centers, local Workforce Investment Boards, employment providers, the criminal justice system, and local housing authorities. The reports include aggregate data on demographic characteristics, types of services received, placements, outcomes, and follow-up status. Specifically, they summarize data on participants who received employment and placement services, housing assistance, mentoring, and other services essential to reintegrating ex-offenders through RExO-Adult programs.

The Department requests an extension of the currently approved information collection to meet the reporting and record-keeping requirements of the Reintegration of Ex-Offenders-Adult grants through an ETA-provided, Web-based Management Information System (MIS). In addition to reporting participant information and performance-related outcomes, RExO-Adult grantees demonstrate their ability to establish effective partnerships with the criminal justice system, local Workforce Investment Boards, local housing authorities, and other partner agencies. They also document the cost effectiveness of their projects. The MIS reporting and record-keeping system incorporates each of these aspects necessary for program evaluation.

This information collection maintains a reporting and record-keeping system for a minimum level of information collection that is necessary to comply with Equal Opportunity requirements, to hold RExO-Adult grantees appropriately accountable for the Federal funds they receive, including common performance measures, and to allow the Department to fulfill its oversight and management responsibilities.

II. Review Focus

The Department is particularly interested in comments which:

• Evaluate whether the proposed collection of information is necessary for the proper performance of the functions of the agency, including whether the information will have practical utility;

• Valuate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Agency: DOL-ETA.

Type of Review: Extension with Changes—additional data elements.

Title of Collection: Reintegration of Ex-offenders-Adult Reporting System.

Form(s): Quarterly Performance Report and Quarterly Narrative Report.

OMB Control Number: 1205-0455.

Affected Public: Faith-Based and Community Organizations and State and Local Criminal Justice and Workforce Development Agencies.

Estimated Number of Respondents: 40 Grantees.

Frequency: Quarterly.

Total Estimated Annual Responses: 160.

Estimated Average Time per Response: 1.8 hours.

Estimated Total Annual Burden Hours: 15,245.

Total Estimated Annual Other Cost Burden: $0.

Estimated Total Burden Hours
Form/activity | Total respondents | Frequency | Total annual response | Average time per response (hours) | Total annual burden hours
Participant Data Collection | 40 | Continual | 5,625 | 1.8 | 10,125
Quarterly narrative progress report | 40 | Quarterly | 160 | 16 | 2,560
Quarterly performance report | 40 | Quarterly | 160 | 16 | 2,560
Totals | 40 |  | 5,945 |  | 15,245

We will summarize and/or include in the request for OMB approval of the ICR the comments received in response to this comment request; they will also become a matter of public record.

Portia Wu,
Assistant Secretary for Employment and Training, Labor.

[FR Doc. 2015-07576 Filed 4-1-15; 8:45 am]

BILLING CODE CODE 4510-FT-P